FEDERAL COMMUNICATIONS COMMISSION

Radio Broadcasting Services; AM or FM Proposals To Change the Community of License

AGENCY: Federal Communications Commission.

ACTION: Notice.

SUMMARY: The following applicants filed AM or FM proposals to change the community of license: Connoisseur Media Licenses, LLC, Station WFOX, Facility ID 14379, BPH-20140522AGF, from Norwalk, CT, to Southport, CT; DJ Broadcasting, Inc., Station NEW, Facility ID 191571, BMPH-20140515ADE, from Rosebud, SD, to Kilgore, NE; Jacom, Inc., Station WQBX, Facility ID 60788, BPH-20140508ABS, from Fowler, MI, to Alma, MI; Oasis of Faith, Inc., Station NEW, Facility ID 172635, BMPED-20140530AFO, from Uvalde, TX, to Bracketville, TX; South Central Oklahoma Christian Broadcasting, Inc., Station KTMU, Facility ID 174356, BPED-20140528AAB, from Muenster, TX, to Oak Ridge, TX.

DATES: The agency must receive comments on or before September 22, 2014.

ADDRESSES: Federal Communications Commission, 445 Twelfth Street SW., Washington, DC 20554.

FOR FURTHER INFORMATION CONTACT: Tung Bui, 202-418-2700.

SUPPLEMENTARY INFORMATION: The full text of these applications is available for inspection and copying during normal business hours in the Commission's Reference Center, 445 12th Street SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street SW., Room CY-B402, Washington, DC 20554, telephone 1-800-378-3160 or www.BCPIWEB.com.

Federal Communications Commission.
James D. Bradshaw,
Deputy Chief, Audio Division, Media Bureau.

[FR Doc. 2014-17372 Filed 7-22-14; 8:45 am]

BILLING CODE 6712-01-P